Proclamation 8230 of April 1, 2008

National Child Abuse Prevention Month, 2008

By the President of the United States of America

A Proclamation

Children are the hope and promise of our Nation, and our society has a special duty to ensure young Americans get the care and attention they need to succeed in life. During National Child Abuse Prevention Month, we underscore our commitment to preventing child abuse and neglect so that all children can live in safety and security.

Parents have a responsibility to safeguard their children from danger and to provide the love, protection, and guidance youngsters need to grow into confident and caring adults. In every community across the Nation, good and courageous citizens are improving the lives of our most vulnerable children with acts of compassion. The strength of America lies in the ability of our citizens to make a positive difference in the lives of our young people.

My Administration is committed to the safety of our Nation's youth. In 2006, I signed into law the Adam Walsh Child Protection and Safety Act, which was designed to protect children from sexual and other violent crimes, help prevent child pornography, and make the Internet safer for our children. This law expands sex offender registration and notification on a nationwide basis, provides a statutory basis for the Project Safe Childhood program, and gives communities and law enforcement the tools necessary to keep children out of harm's way. Additionally, with strengthened Federal penalties, we will ensure that those who prey on our children will be caught, prosecuted, and punished to the fullest extent of the law.

As we observe National Child Abuse Prevention Month, we reaffirm our loving commitment to America's youth and our dedication to building a society in which all children can realize their full potential.

NOW, THEREFORE, I, GEORGE W. BUSH, President of the United States of America, by virtue of the authority vested in me by the Constitution and laws of the United States, do hereby proclaim April 2008 as National Child Abuse Prevention Month. I encourage all citizens to help protect our children from abuse and neglect and to take an active role in creating safe communities.

IN WITNESS WHEREOF, I have hereunto set my hand this first day of April, in the year of our Lord two thousand eight, and of the Independence of the United States of America the two hundred and thirty-second.

[FR Doc. 08-1099

Filed 4-2-08; 9:03 am]

Billing code 3195-01-P